DEPARTMENT OF STATE

[Public Notice: 12663]

Notice of Department of State Sanctions Actions Pursuant to the Executive Order Regarding Blocking Property With Respect to Specified Harmful Foreign Activities of the Government of the Russian Federation

SUMMARY: The Department of State is publishing the names of one or more persons that have been placed on the Department of Treasury's List of Specially Designated Nationals and Blocked Persons (SDN List) administered by the Office of Foreign Asset Control (OFAC) based on the Department of State's determination, in consultation with other departments, as appropriate, that one or more applicable legal criteria of the Executive Order regarding blocking property with respect to specified harmful foreign activities of the Government of the Russian Federation were satisfied. All property and interests in property subject to U.S. jurisdiction of these persons are blocked, and U.S. persons are generally prohibited from engaging in transactions with them.

DATES: See SUPPLEMENTARY INFORMATION section for applicable date(s).

FOR FURTHER INFORMATION CONTACT: Aaron P. Forsberg, Director, Office of Economic Sanctions Policy and Implementation, Bureau of Economic and Business Affairs, Department of State, Washington, DC 20520, tel.: (202) 647 7677, email: ForsbergAP@state.gov.

SUPPLEMENTARY INFORMATION:

Electronic Availability

The SDN List and additional information concerning sanctions programs are available on OFAC's website, https://ofac.treasury.gov/sanctions-programs-and-country-information/russian-harmful-foreign-activities-sanctions.

Notice of Department of State Actions

On September 5, 2024, the Department of State, in consultation with other departments, as appropriate, determined that the property and interests in property subject to U.S. jurisdiction of the following persons are blocked under the relevant sanctions authority listed below.

Entities

1. GOTIK SHIPPING CO, B Type C Wing 101 Malhar., Sankul Chs Agra Road KalyKalyan D.c., Thane Kalyan, Maharashtra 421301, India; Liberia; Secondary sanctions risk: See Section 11 of Executive Order 14024.; ID No. IMO 6505487 [RUSSIA-EO14024] (Linked To: LIMITED LIABILITY COMPANY ARCTIC LNG 2).

Designated pursuant to Section 1(a)(vi)(B) of Executive Order of April 15, 2021, “Blocking Property With Respect To Specified Harmful Foreign Activities of the Government of the Russian Federation,” (E.O. 14024), for having materially assisted, sponsored, or provided financial, material, or technological support for, or goods or services to or in support of LIMTED LIABILITY COMPANY ARCTIC LNG 2, a person whose property and interests in property are blocked pursuant to E.O. 14024.

2. PLIO ENERGY CARGO SHIPPING OPC PRIVATE LIMITED, B Type C Wing 101 Malhar., Sankul Chs Agra Road KalyKalyan D.c., Thane Kalyan, Maharashtra 421301, India; Secondary sanctions risk: See Section 11 of Executive Order 14024.; Organization Established Date 2024; C.I.N. U52292MH2024OPC427341 (India); ID No. IMO 0028953 [RUSSIA-EO14024] (Linked To: LIMITED LIABILITY COMPANY ARCTIC LNG 2).

Designated pursuant to Section 1(a)(vi)(B) of E.O. 14024 for having materially assisted, sponsored, or provided financial, material, or technological support for, or goods or services to or in support of LIMTED LIABILITY COMPANY ARCTIC LNG 2, a person whose property and interests in property are blocked pursuant to E.O. 14024.

Vessels

1. NEW ENERGY (T8A4832) LNG Carrier Republic of Palau flag; Secondary sanctions risk: See Section 11 of Executive Order 14024.; Vessel Registration Identification IMO 9324277 (vessel) [RUSSIA-EO14024] (Linked To: GOTIK SHIPPING CO).

Identified as property in which GOTIK SHIPPING CO, a person designated pursuant to E.O. 14024, has an interest.

2. MULAN (T8A4797) LNG Carrier Republic of Palau flag; Secondary sanctions risk: See Section 11 of Executive Order 14024.; Vessel Registration Identification IMO 9864837 (vessel) [RUSSIA-EO14024] (Linked To: PLIO ENERGY CARGO SHIPPING OPC PRIVATE LIMITED).

Identified as property in which PLIO ENERGY CARGO SHIPPING OPC PRIVATE LIMITED, a person designated pursuant to E.O. 14024, has an interest.

Amy E. Holman,
Principal Deputy Assistant Secretary, Bureau of Economic and Business Affairs, Department of State.

[FR Doc. 2025-02904 Filed 2-20-25; 8:45 am]

BILLING CODE 4710-07-P